DEPARTMENT OF DEFENSE

Office of the Secretary

The Joint Staff, National Defense University, Board of Visitors Meeting

AGENCY: National Defense University.

ACTION: Notice of open meeting.

SUMMARY: The President, National Defense University (NDU) has scheduled a meeting of the Board of Visitors (BOV).

DATES: The meeting will be held on April 28th and 29th 2003, from 13:00 to 16:00 on the 28th and continuing on the 29th from 08:30 to 14:30.

ADDRESSES: The Board will meet in Room 155, Marshall Hall, building 62, National Defense University, 300 5th Avenue, Fort McNair, Washington, DC 20319-5066.

FOR FURTHER INFORMATION CONTACT: NDU Deputy Chief Operations Officer & Deputy Chief of Staff, Mr. Michael Mann, National Defense University, Fort Lesley J. McNair, Washington, DC 20319-5066. To reserve seating space, interested persons should contact the NDU, POC Mr. Mann, at (202) 685-3903.

SUPPLEMENTARY INFORMATION: The agenda will address current and future teaching, research, and outreach issues for the National Defense University and its components. The meeting is open to the public however, space is limited and therefore will be allocated to observers on a first come, first served basis.

POC for outside interests is Mr. Michael Mann, BOV Executive Secretary at mannm@ndu.edu and/or (202) 685-3903.

Dated: April 16, 2003.
Patricia L. Toppings,
Alternate OSD Federal Register Liaison Officer, Department of Defense.

[FR Doc. 03-9963 Filed 4-22-03; 8:45 am]

BILLING CODE 5001-08-M